FEDERAL COMMUNICATIONS COMMISSION

Information Collection Being Reviewed by the Federal Communications Commission

AGENCY: Federal Communications Commission.

ACTION: Notice and request for comments.

SUMMARY: The Federal Communications Commission (FCC), as part of its continuing effort to reduce paperwork burdens, invites the general public and other Federal agencies to take this opportunity to comment on the following information collection, as required by the Paperwork Reduction Act (PRA) of 1995. Comments are requested concerning (a) whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burden on small business concerns with fewer than 25 employees.

The FCC may not conduct or sponsor a collection of information unless it displays a currently valid control number. No person shall be subject to any penalty for failing to comply with a collection of information subject to the PRA that does not display a valid Office of Management and Budget (OMB) control number.

DATES: Written PRA comments should be submitted on or before September 12, 2011. If you anticipate that you will be submitting comments, but find it difficult to do so within the period of time allowed by this notice, you should advise the contact listed below as soon as possible.

ADDRESSES: Direct all PRA comments to Paul Laurenzano, FCC, via e-mail PRA@fcc.gov and to Paul.Laurenzano@fcc.gov.

FOR FURTHER INFORMATION CONTACT: For additional information about the information collection, contact Paul Laurenzano at (202) 418-1359.

SUPPLEMENTARY INFORMATION:

OMB Control Number: 3060-0511.

Title: ARMIS Access Report.

Report No.: FCC Report 43-04.

Type of Review: Extension of a currently approved collection.

Respondents: Business or other for-profit.

Number of Respondents and Responses: 76 respondents; 76 responses.

Estimated Time per Response: 153 hours.

Frequency of Response: Annual reporting requirement.

Obligation to Respond: Mandatory. Statutory authority for this information collection is contained in 47 U.S.C. 161, 219(b) and 220 of the Communications Act of 1934, as amended.

Total Annual Burden: 11,628 hours.

Total Annual Cost: No cost.

Privacy Act Impact Assessment: No impact.

Nature and Extent of Confidentiality: Ordinarily, questions of a sensitive nature are not involved in the ARMIS 43-04 Access Report. The Commission contends that areas in which detailed information is required are fully subject to regulation and the issue of data being regarded as sensitive will arise on special circumstances only. In such circumstances, the Commission instructs the respondent on the appropriate procedures to follow to safeguard sensitive data. Respondents may request confidential treatment of their documents under 47 CFR 0.459 of the Commission's rules.

Needs and Uses: The ARMIS Report 43-04, Access Report, collects the results of the jurisdictional separations and access charge procedures as specified in Parts 36 and 69 of the Commission's Rules. The 43-04 Report specifies information requirements in a consistent format and is essential to the FCC to monitor revenue requirements, joint cost allocations, jurisdictional separations and access charges. There are no changes to the ARMIS Report 43-04.

Although the Commission has granted conditional forbearance from FCC Reports 43-04, the Commission still seeks OMB approval because petitions for reconsideration and review of those forbearance decisions are currently pending before the Commission and the courts, respectively. On April 24, 2008, the Commission in Petition of AT&T Inc. for Forbearance under 47 U.S.C. 160 from Enforcement of Certain of the Commission's Cost Assignment Rules, WC Docket Nos. 07-21, 05-342, Memorandum Opinion and Order, 23 FCC Rcd 7302 (2008) (AT&T Cost Assignment Forbearance Order), pet for recon. pending, pet. for review pending, NASUCA v. FCC, Case No. 08-1226 (DC Cir. filed June 23, 2008) granted forbearance, subject to conditions, from the statutory provision and Commission rules as requested in the Legacy AT&T and Legacy BellSouth petitions (collectively, “Cost Assignment Rules”). AT&T asked for and the Commission granted forbearance from four of the Commission's reporting requirements—the Access Report (ARMIS 43-04), the Rate of Return Monitoring Report (FCC Form 492), the Reg/Non-Reg Forecast Report (FCC Form 495A) and the Reg/Non-Reg Actual Usage Report (FCC Form 495B)—because forbearance from the Cost Assignment Rules renders these reports meaningless. The Commission had concluded that the various accounting rules were intended to work together to help ensure the primary statutory goal of just and reasonable rates. See Separations of Costs of Regulated Telephone Service from Costs of Nonregulated Activities: Amendment of Part 31, the Uniform System of Accounts for Class A and Class B Telephone Companies to Provide for Nonregulated Activities and to Provide for Transactions Between Telephone Companies and their Affiliates, CC Docket 86-111, Report and Order, 2 FCC Rcd 1298 (1987), petition for review denied, Southwestern Bell Corp v. FCC, 896 F. 2d 1378 (DC Cir. 1990).

In Service Quality, Customer Satisfaction, Infrastructure and Operating Data Gathering, WC Docket Nos. 08-190, 07-139, 07-204, 07-273, 07-21, Memorandum Opinion and Order and Notice of Proposed Rulemaking, 23 FCC Rcd 13647 (2008) (Verizon/Qwest Cost Assignment Forbearance Order), pet. for recon. pending, pet. for review pending, NASUCA v. FCC, Case No. 08-1353 (DC Cir. filed Nov. 4, 2008) the Commission extended to Verizon and Qwest forbearance from the statutory provision and Commission rules from the Cost Assignment Rules to the same extend granted AT&T in the AT&T Cost Assignment Forbearance Order and subject to the same conditions. The Commission concluded that there is no current Federal need for the Cost Assignment Rules, as they apply to Verizon and Qwest, to ensure that charges and practices are just, reasonable, and not unjustly discriminatory; to protect consumers; and to ensure the public interest. See AT&T Cost Assignment Forbearance Order, 23 FCC Rcd at 7307, paragraph 11.

Federal Communications Commission.
Bulah P. Wheeler,
Deputy Manager, Office of the Secretary, Office of Managing Director.

[FR Doc. 2011-17562 Filed 7-12-11; 8:45 am]

BILLING CODE 6712-01-P